DEPARTMENT OF COMMERCE

National Oceanic and Atmospheric Administration

RIN 0648-XD899

North Pacific Fishery Management Council; Public Meeting

AGENCY: National Marine Fisheries Service (NMFS), National Oceanic and Atmospheric Administration (NOAA), Commerce.

ACTION: Notice of public meeting.

SUMMARY: The North Pacific Fishery Management Council's (NPFMC) Bering Sea Aleutian Islands (BSAI) Crab Plan Team (CPT) will meet in Anchorage, AK.

DATES: The meeting will be held May 4-7, 2015, from 9 a.m. to 5 p.m.

ADDRESSES: The meeting will be held at the Anchorage Hilton Hotel, 500 W 3rd Avenue, King Salmon/Illiamna Room, Anchorage, AK.

Council address: North Pacific Fishery Management Council, 605 W. 4th Avenue, Suite 306, Anchorage, AK 99501-2252.

FOR FURTHER INFORMATION CONTACT: Sarah Marrinan; telephone: (907) 271-2809.

SUPPLEMENTARY INFORMATION: The Plan Team will review final assessments for Aleutian Island Golden King Crab, Pribilof Island Golden King Crab, and Western Aleutian Red King Crab and recommend Overfishing Levels (OFLs) and Acceptable Biological Catch (ABCs) for these stocks. Model scenarios will be presented for Snow crab, Bristol Bay Red King Crab, Tanner Crab, Saint Matthew Blue King Crab and Pribilof Red King Crab. Additional topics include an update on progress on generic modeling framework for Alaskan crab stocks (GMACs) applications to Bristol Bay Red King Crab, the forthcoming Center for Independent Experts (CIE) review as well as recommendations on the Eastern Bering Sea survey time series, and update on Golden King crab research in the Aleutian Islands and recommendations on 2015 Research Priorities. The Plan Team will also receive a presentation of biological considerations relative to the 10 year crab rationalization program review.

The Agenda is subject to change, and the latest version will be posted at http://www.npfmc.org/.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 13, 2015.
Tracey L. Thompson,
Acting Deputy Director, Office of Sustainable Fisheries, National Marine Fisheries Service.

[FR Doc. 2015-08717 Filed 4-15-15; 8:45 am]

BILLING CODE 3510-22-P